DEPARTMENT OF COMMERCE

Foreign-Trade Zones Board

[Docket 43-2011]

Foreign-Trade Subzone 38A; Termination of Review of Application for Expansion; BMW Manufacturing Co., LLC (Motor Vehicles); Greer, South Carolina

Notice is hereby given of termination of review of an application submitted by the South Carolina State Ports Authority, grantee of FTZ 38, on behalf of BMW Manufacturing Co., LLC (BMWMC), operator of Subzone 38A, requesting authority to expand BMWMC's scope of FTZ manufacturing authority to include additional production capacity. The application was filed on June 15, 2011 (76 FR 36079-36080, 6-21-2011).

The termination is a result of changed circumstances, and the case has been closed without prejudice.

Dated: March 1, 2013.
Andrew McGilvray,
Executive Secretary.

[FR Doc. 2013-05357 Filed 3-7-13; 8:45 am]

BILLING CODE P